FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 17, 2017.

A. Federal Reserve Bank of Chicago (Colette A. Fried, Assistant Vice President) 230 South LaSalle Street, Chicago, Illinois 60690-1414:

1. William M. Parks and Ruth M. Parks, individually, and as co-trustees of the Ann F. Parks Special Trust Number One, Muscatine, Iowa; Ann F. Parks Special Trust Number One, individually, Muscatine, Iowa; Daniel P. Stein as trustee of the Daniel P. Stein Revocable Trust dated October 7, 2008, James P. Stein Trust Number One, and the Inter Vivos Stock Trust of Simon G. Stein IV FBO James P. Stein, Muscatine, Iowa; James P. Stein as trustee of the James P. Stein Revocable Trust dated December 16, 2005 and the Inter Vivos Stock Trust of Simon G. Stein IV FBO James P. Stein, Muscatine, Iowa; Timothy J. Stein as trustee of the Timothy J. Stein Revocable Trust dated August 10, 2012, James P. Stein Trust Number One, and the Inter Vivos Stock Trust of Simon G. Stein IV FBO James P. Stein, Lakeway, Texas; Carrie A. Zorich as trustee of the Carrie A. Zorich Revocable Trust dated July 23, 2007, James P. Stein Trust Number One, and the Inter Vivos Stock Trust of Simon G. Stein IV FBO James P. Stein, Muscatine, Iowa; Maryann Bramhall-Lambert as trustee of the GST Exempt Trust for benefit of James P. Stein Family, Iowa City, Iowa; GST Exempt Trust for benefit of James P. Stein Family, Muscatine, Iowa; Daniel P. Stein Revocable Trust dated October 7, 2008, Muscatine, Iowa; James P. Stein Revocable Trust dated December 16, 2005, Muscatine, Iowa; Timothy J. Stein Revocable Trust dated August 10, 2012, Lakeway, Texas; Carrie A. Zorich Revocable Trust dated July 23, 2007, Muscatine, Iowa; James P. Stein Trust Number One, Muscatine, Iowa; Inter Vivos Stock Trust of Simon G. Stein IV FBO James P. Stein, Muscatine, Iowa; Thomas L. Lambert, Iowa City, Iowa; Francis L. Lambert, Rock Island, Illinois; and Susan M. Yeast, West Liberty, Iowa; in addition to, James P. Stein; Timothy J. Stein; Carrie A. Zorich; Daniel P. Stein; Benjamin L. Parks, Iowa City, Iowa; William M. Parks; and Ruth M. Parks, Muscatine, Iowa, as members of Sawyer Group Family Council which votes and controls shares owned by the Ann F. Parks Special Trust Number One; GST Exempt Trust for benefit of James P. Stein Family; Daniel P. Stein Revocable Trust dated October 7, 2008; James P. Stein Revocable Trust dated December 16, 2005; Timothy J. Stein Revocable Trust dated August 10, 2012; Carrie A. Zorich Revocable Trust dated July 23, 2007; James P. Stein Trust Number One; and the Inter Vivos Stock Trust of Simon G. Stein IV FBO James P. Stein, as a group acting in concert; to retain voting shares of Central Bancshares, Inc. and thereby indirectly retain shares of CBI Bank & Trust, Muscatine, Iowa, and The Farmers and Mechanics Bank, Galesburg, Illinois.

B. Federal Reserve Bank of St. Louis (David L. Hubbard, Senior Manager) P.O. Box 442, St. Louis, Missouri 63166-2034. Comments can also be sent electronically to Comments.applications@stls.frb.org:

1. Craig L. Weiss, Memphis, Tennessee; to acquire shares of Paragon Financial Solutions, Inc., and thereby indirectly acquire shares of Paragon Bank, both of Memphis, Tennessee.

C. Federal Reserve Bank of Dallas (Robert L. Triplett III, Senior Vice President) 2200 North Pearl Street, Dallas, Texas 75201-2272:

1. Keitha Ann Nilsson, Daingerfield, Texas, and Mickey Wiley Carter, Jr., Omaha, Texas; to join the Holton Family Group, a group acting in concert; to retain voting shares of WSB Bancshares, Inc., and indirectly retain shares of Wellington State Bank, both of Wellington, Texas.

Board of Governors of the Federal Reserve System, March 28, 2017.
Yao-Chin Chao,
Assistant Secretary of the Board.

[FR Doc. 2017-06394 Filed 3-30-17; 8:45 am]

BILLING CODE 6210-01-P